LIBRARY OF CONGRESS

Copyright Office

37 CFR Part 201

[Docket No. RM 2002-4A]

Exemption to Prohibition on Circumvention of Copyright Protection Systems for Access Control Technologies

AGENCY: Copyright Office, Library of Congress.

ACTION: Notice of inquiry.

SUMMARY: The Copyright Office of the Library of Congress has granted a petition by Static Control Components, Inc. to consider a newly-proposed class of works to be exempted from the prohibition on circumvention of technological measures that control access to copyrighted works as part of a pending rulemaking pursuant to the Digital Millennium Copyright Act. The Office has posted Static Control's comment in support of the proposed exemption on its website and seeks reply comments on the proposed exemption.

DATES: Reply comments must be received by the Copyright Office General Counsel no later than 5 pm Eastern Standard Time on March 10, 2003.

ADDRESSES: Electronic Internet submissions must be made through the Copyright Office Web site at http://www.copyright.gov/1201/comment_forms. See Exemption to Prohibition on Circumvention of Copyright Protection Systems for Access Control Technologies, 67 FR 63578, 63582 (October 15, 2002), for file formats and other information about electronic and non-electronic filing requirements. If delivered by hand, comments should be delivered to the Office of the General Counsel, Copyright Office, LM-403, James Madison Memorial Building, 101 Independence Avenue, SE., Washington, DC. If delivered by means of the United States Postal Service, comments should be addressed to David O. Carson, General Counsel, Copyright GC/I&R, PO Box 70400, Southwest Station, Washington, DC 20024-0400.

FOR FURTHER INFORMATION CONTACT: Rob Kasunic, Office of the General Counsel, Copyright GC/I&R, PO Box 70400, Southwest Station, Washington, DC 20024-0400. Telephone (202) 707-8380; telefax (202) 707-8366.

SUPPLEMENTARY INFORMATION: The Copyright Office of the Library of Congress is currently conducting proceedings mandated by the Digital Millennium Copyright Act, which provides that the Librarian of Congress may exempt certain classes of works from the prohibition against circumvention of technological measures that control access to copyrighted works. See 17 U.S.C. 1201(a)(1)(C). The purpose of this rulemaking proceeding is to determine whether there are particular classes of works as to which users are, or are likely to be, adversely affected in their ability to make noninfringing uses due to the prohibition on circumvention. If there are, the Librarian may exempt such classes from the statutory prohibition.

Comments proposing classes of works to be exempted were due December 18, 2002. However, in order to provide flexibility in this rulemaking proceeding and to take into account unforeseen developments that might significantly affect the recommendation of the Register of Copyrights, the Office's October 15, 2002 Notice of Inquiry provided an opportunity to petition the Register for consideration of new information that could not reasonably have been known prior to the December 18 deadline. See Exemption to Prohibition on Circumvention of Copyright Protection Systems for Access Control Technologies, 67 FR 63578, 63582 (October 15, 2002). The Notice of Inquiry states that a petition to consider new classes of works proposed for exemption must be in writing and must set forth the reasons why the information could not have been made available earlier and why it should be considered by the Register after the deadline. A petition must also set forth the proposed class or classes of works to be exempted, a summary of the argument, the factual basis for such an exemption and the legal argument supporting such an exemption. The Register's determination whether to accept such a petition is based on the stage of the rulemaking process at which the request is made and the merits of the petition.

Static Control Components, Inc. (“Static Control”) has petitioned for consideration of the following classes of works:

1. Computer programs embedded in computer printers and toner cartridges and that control the interoperation and functions of the printer and toner cartridge;

2. Computer programs embedded in a machine or product and which cannot be copied during the ordinary operation or use of the machine or product; and

3. Computer programs embedded in a machine or product and that control the operation of a machine or product connected thereto, but that do not otherwise control the performance, display or reproduction of copyrighted works that have an independent economic significance.

The Register of Copyrights has determined that Static Control has adequately explained why the information set forth in its petition could not have been made available earlier, and that Static Control has set forth sufficiently serious arguments on the merits to warrant consideration of its proposal after the initial deadline. Accordingly, the “Petition of Static Control Components, Inc. for Consideration of New Information” has been accepted as a comment proposing three classes of works to be exempted from the prohibition on circumvention, and interested parties are invited to submit reply comments responsive to this comment, either in support of or opposition to the Static Control proposal. Static Control's comment is available on the Copyright Office Web site at http://www.copyright.gov/1201/2003/petitions/.

Reply comments responsive to this new comment will be accepted from February 24, 2003 until March 10, 2003, at 5 pm Eastern Standard Time. Commenters are encouraged to file their comments electronically. See ADDRESSES, above. Please review the initial Notice of Inquiry for format requirements for comments. See 67 FR at 63582 (October 15, 2002).

Dated: February 5, 2003.
David O. Carson,
General Counsel, Copyright Office.

[FR Doc. 03-3256 Filed 2-7-03; 8:45 am]

BILLING CODE 1410-30-P